DEPARTMENT OF COMMERCE

National Oceanic and Atmospheric Administration

RIN 0648-XP90

Fisheries of the Caribbean, Gulf of Mexico, and South Atlantic; Snapper-Grouper Fishery off the Southern Atlantic States and Coral and Coral Reefs Fishery in the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Mr. M. Scott Baker, Jr., on behalf of North Carolina Sea Grant in Wilmington, North Carolina. If granted, the EFP would authorize Mr. Baker to collect, with certain conditions, seven species of reef fish in Federal waters, off the coast of North Carolina, South Carolina, Georgia, and Florida. The specimens will be used to evaluate electronic monitoring as a tool to characterize fishing activities of the commercial snapper-grouper vertical hook-and-line (bandit) fleet, and to help determine the age-size structure of discarded fish caught as bycatch in this fishery.

DATES: Comments must be received no later than 5 p.m., Eastern standard time, on August 28, 2009.

ADDRESSES: Comments on the application may be sent via fax to 727-824-5308 or mailed to: Nikhil Mehta, Southeast Regional Office, NMFS, 263 13th Avenue South, St. Petersburg, FL 33701. Comments may also be submitted by e-mail. The mailbox address for providing e-mail comments is 0648-XP90@noaa.gov. Include in the subject line of the e-mail document the following text: Comment on M. Scott Baker, Jr. EFP Application. The application and related documents are available for review upon written request to the address above or the by request via the contact numbers listed under FOR FURTHER INFORMATION CONTACT below.

FOR FURTHER INFORMATION CONTACT: Nikhil Mehta, 727-824-5305; fax 727-824-5308.

SUPPLEMENTARY INFORMATION: The EFP is requested under the authority of the Magnuson-Stevens Fishery Conservation and Management Act (16 U.S.C 1801 et seq.), and regulations at 50 CFR 600.745(b) concerning exempted fishing.

This action involves activities covered by regulations implementing the Fishery Management Plan for the Snapper-Grouper Fishery of the South Atlantic Region. The applicant requires authorization to collect a maximum of 300 sub-legal fish of each of the following species: red snapper, vermilion snapper, gag, red grouper, greater amberjack, black sea bass, and red porgy.

Specimens would be collected in Federal waters off the coast of North Carolina, South Carolina, Georgia, and Florida. The project proposes to use vertical hook-and-line (bandit) gear to make the collections. Samples would be collected year-round for a period of 2 years, commencing on the date of issuance of the EFP.

The overall intent of the project is to work cooperatively with fishermen to evaluate electronic video monitoring as a tool to characterize fishing activities of the commercial snapper-grouper vertical hook-and-line (bandit) fleet. Biological data would also be collected from the samples to characterize the age-size structure of the frequently encountered species discarded in this fishery.

NMFS finds this application warrants further consideration. Based on a preliminary review, NMFS intends to issue the requested EFP, pending receipt of public comments, as per 50 CFR 600.745(b)(3)(i). Possible conditions the agency may impose on this permit, if it is indeed granted, include but are not limited to, a prohibition on conducting research within marine protected areas, marine sanctuaries, special management zones, or artificial reefs without additional authorization. Additionally, NMFS may prohibit the possession of Nassau or goliath grouper, and require any sea turtles taken incidentally during the course of fishing or scientific research activities to be handled with due care to prevent injury to live specimens, observed for activity, and returned to the water. Periodic updates on the project findings will be required every 6 months, to be submitted to NMFS and reviewed by the South Atlantic Fishery Management Council. A final decision on issuance of the EFP will depend on NMFS's review of public comments received on the application, consultations with the affected states, the Mid- and South Atlantic Fishery Management Councils, and the U.S. Coast Guard, as well as a determination that it is consistent with all applicable laws.

Authority: 16 U.S.C 1801 et seq.

Dated: July 23, 2009.
James P. Burgess,
Acting Director, Office of Sustainable Fisheries, National Marine Fisheries Service.

[FR Doc. E9-17923 Filed 7-28-09; 8:45 am]

BILLING CODE 3510-22-S